DEPARTMENT OF TRANSPORTATION

Federal Aviation Administration

14 CFR Part 39

[Docket No. FAA-2005-22413; Directorate Identifier 2005-NM-167-AD; Amendment 39-14271; AD 2005-19-06]

RIN 2120-AA64

Airworthiness Directives; Boeing Model 747-100, 747-100B, 747-100B SUD, 747-200B, 747-200C, 747-200F, 747-300, 747SR, and 747SP Series Airplanes

AGENCY: Federal Aviation Administration (FAA), Department of Transportation (DOT).

ACTION: Final rule; correction.

SUMMARY: The FAA is correcting a typographical error in an existing airworthiness directive (AD) that was published in the Federal Register on September 15, 2005 (70 FR 54474). The error resulted in an inadvertent reference to a nonexistent paragraph. This AD applies to certain Boeing Model 747-100, 747-100B, 747-100B SUD, 747-200B, 747-200C, 747-200F, 747-300, 747SR, and 747SP series airplanes. This AD requires repetitive detailed and ultrasonic inspections of the thrust links of the rear engine mounts for any crack or fracture and corrective actions if necessary.

DATES: Effective September 30, 2005.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-22413; the directorate identifier for this docket is 2005-NM-167-AD.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

SUPPLEMENTARY INFORMATION: On September 6, 2005, the FAA issued AD 2005-19-06, amendment 39-14271 (70 FR 54474, September 15, 2005), for certain Boeing Model 747-100, 747-100B, 747-100B SUD, 747-200B, 747-200C, 747-200F, 747-300, 747SR, and 747SP series airplanes; equipped with Pratt & Whitney JT9D-3 and -7 series engines, except JT9D-70 engines. The AD requires repetitive detailed and ultrasonic inspections of the thrust links of the rear engine mounts for any crack or fracture and corrective actions if necessary.

As published, the requirements of paragraph (h)(1) of the AD inadvertently reference doing the repetitive replacements “* * * at the applicable compliance time specified in paragraph (h)(1)(i) or (h)(2)(ii) of this AD.” However, there is no paragraph (h)(2)(ii) in the AD. We have removed reference to paragraph (h)(2)(ii) and replaced it with the correct reference to paragraph (h)(1)(ii).

No other part of the regulatory information has been changed; therefore, the final rule is not republished in the Federal Register.

The effective date of this AD remains September 30, 2005.

§ 39.13 [Corrected]

In the Federal Register of September 15, 2005, on page 54476, in the third column, paragraph (h)(1) of AD 2005-19-06 is corrected to read as follows:

* * * * *

(1) Replace the cracked thrust link with a new or overhauled thrust link in accordance with Part 2 of the service bulletin; except as provided by paragraph (i) of this AD. Repeat the replacement at the applicable compliance time specified in paragraph (h)(1)(i) or (h)(1)(ii) of this AD.

* * * * *

Issued in Renton, Washington, on September 26, 2005.
Ali Bahrami,
Manager, Transport Airplane Directorate, Aircraft Certification Service.

[FR Doc. 05-19564 Filed 9-29-05; 8:45 am]

BILLING CODE 4910-13-P